DEPARTMENT OF COMMERCE

National Oceanic and Atmospheric Administration

RIN 0648-XE923

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council (Council) will hold a meeting of its Scientific and Statistical Committee (SSC).

DATES: The SSC will meet 1:30 p.m. to 5:30 p.m., Tuesday, October 18, 2016; 8:30 a.m. to 5:30 p.m., Wednesday, October 19, 2016; and 8:30 a.m. to 3 p.m., Thursday, October 20, 2016.

ADDRESSES: The meeting will be held at the Charleston Marriott Hotel, 170 Lockwood Blvd., Charleston, SC 29403; phone: (843) 723-3000 or (800) 968-3569.

Council address: South Atlantic Fishery Management Council, 4055 Faber Place Drive, Suite 201, N. Charleston, SC 29405.

FOR FURTHER INFORMATION CONTACT: Kim Iverson, Public Information Officer, 4055 Faber Place Drive, Suite 201, North Charleston, SC 29405; phone: (843) 571-4366 or toll free (866) SAFMC-10; fax: (843) 769-4520; email: kim.iverson@safmc.net.

SUPPLEMENTARY INFORMATION: The following agenda items will be addressed by the SSC during this meeting:

1. NMFS Stock Assessment Prioritization tool application to selected South Atlantic stocks.

2. Receive an update on Southeast Data, Assessment and Review (SEDAR) activities.

3. Receive an update on 2015 Landings, Annual Catch Limits (ACLs), Acceptable Biological Catches (ABCs) and Accountability Measures (AMs).

4. Discuss modifications to the ABC Control Rule.

5. Further consider the SEDAR stock assessment update and fishing level recommendations for Golden Tilefish.

6. Review Snapper Grouper Amendment 43, including Red Snapper reference points, consider fishing level recommendations, and reliability of NOAA Fisheries' Marine Recreational Information Program estimates.

7. Review a study on Black Sea Bass commercial pot mesh size.

8. Review the draft Council management analysis review process.

9. Consider fishing level recommendations for Spiny Lobster.

10. Review Snapper Grouper Amendment 41 for Mutton Snapper.

11. Discuss proposed topics for the next National SSC meeting.

12. Receive an update on the Council's work plan and current amendments.

13. Discuss revisions to the SSC Public Comment Policy.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the intent to take final action to address the emergency.

Written comment on SSC agenda topics is to be distributed to the Committee through the Council office. Written comment to be considered by the SSC shall be provided to the Council office no later than one week prior to an SSC meeting. The deadline for submission of written comment is 12 p.m. Tuesday, October 11, 2016. Two opportunities for comment on agenda items will be provided during the SSC meeting and noted on the agenda. The first will be at the beginning of the meeting, and the second near the conclusion, when the SSC reviews its recommendations.

Special Accommodations

This meeting is accessible to people with disabilities. Requests for auxiliary aids should be directed to the SAFMC office (see ADDRESSES) at least 10 business days prior to the meeting.

Note: The times and sequence specified in this agenda are subject to change.

Authority: 16 U.S.C. 1801 et seq.

Dated: September 28, 2016.
Tracey L. Thompson,
Acting Deputy Director, Office of Sustainable Fisheries, National Marine Fisheries Service.

[FR Doc. 2016-23802 Filed 9-30-16; 8:45 am]

BILLING CODE 3510-22-P